ENVIRONMENTAL PROTECTION AGENCY

[ER-FRL-8992-2]

Environmental Impacts Statements; Notice Of Availability

Responsible Agency: Office of Federal Activities, General Information (202) 564-1399 or http://www.epa.gov/compliance/nepa/.

Weekly Receipt of Environmental Impact Statements

Filed 08/02/2010 through 08/06/2010 pursuant to 40 CFR 1506.9.

Notice:

In accordance with Section 309(a) of the Clean Air Act, EPA is required to make its comments on EISs issued by other Federal agencies public. Historically, EPA has met this mandate by publishing weekly notices of availability of EPA comments, which includes a brief summary of EPA's comment letters, in the Federal Register. Since February 2008, EPA has been including its comment letters on EISs on its Web site at: http://www.epa.gov/compliance/nepa/eisdata.html. Including the entire EIS comment letters on the Web site satisfies the Section 309(a) requirement to make EPA's comments on EISs available to the public. Accordingly, on March 31, 2010, EPA discontinued the publication of the notice of availability of EPA comments in the Federal Register.

EIS No. 20100304, Final EIS, USFS, 00, Umatilla National Forest Invasive Plants Treatment, Propose to Treat Invasive Plants and Restore Treated Sites, Asotin, Columbia, Garfield, Walla Walla Counties, WA and Grant, Morrow, Umatilla, Union, Wallowa, Wheeler Counties, OR, Wait Period Ends: 09/13/2010, Contact: Robert Giannity, 541-278-3869.

EIS No. 20100305, Draft EIS, NPS, AK, Nebesna Off-Road Vehicle Management Plan, Implementation, Wrangell-St. Elias National Park and Preserve, AK, Comment Period Ends: 09/27/2010, Contact: Bruce Rogers, 907-822-7276.

EIS No. 20100306, Final EIS, USA, GA, Fort Stewart Training Range and Garrison Support Facilities Construction and Operation, Liberty, Long, Bryan, Evans and Tattnall Counties, GA, Wait Period Ends: 09/13/2010, Contact: Jennifer Shore, 703-602-4238.

EIS No. 20100307, Revised Final EIS, FHWA, MN, MN-371 North Improvement Project, Reconstruction from the Intersection of Crow Wing County Road 18 in Nisswa to the Intersection of Cass County Road 42 in Pine River, Funding, NPDES Permit, and US Army COE Section 404 Permit Issuance, Crow Wing and Cass Counties, MN, Wait Period Ends: 09/13/2010, Contact: Philip Forst, 651-291-6110.

EIS No. 20100308, Draft EIS, USFS, MN, South Fowl Lake Snowmobile Access Project, Proposing a Replacement Snowmobile Trail between McFarland Lake and South Fowl Lake, Gunflint Ranger District, Superior National Forest, Eastern Region, Cook County, MN, Comment Period Ends: 09/27/2010, Contact: Peter Taylor, 218-626-4368.

EIS No. 20100309, Final EIS, BLM, CO, Little Snake Resource Management Plan, Implementation, Moffat, Routt and Rio Blanco Counties, Craig CO, Wait Period Ends: 09/13/2010, Contact: Jeremy Casterson, 970-836-5071.

EIS No. 20100310, Final EIS, BLM, CA, Chevron Energy Solutions Lucerne Valley Solar Project, Proposing To Develop a 45-megawatt (MW) Solar Photovotaic (PV) Plant and Associated Facilities on 516 Acres of Federal Land Managed, California Desert Conservation Area Plan Amendment, San Bernardino County, CA, Wait Period Ends: 09/13/2010, Contact: Greg Thomsen, 951-697-5237.

EIS No. 20100311, Draft EIS, NRC, FL, Levy Nuclear Plant Units 1 and 2, Application for Combined Licenses (COLs) for Construction Permits and Operating Licenses, (NUREG-1941), Levy County, FL Comment Period Ends: 10/26/2010, Contact: Douglas Bruner, 301-415-2730.

EIS No. 20100312, Draft EIS, NRC, TX, Comanche Peak Nuclear Power Plant Units 3 and 4, Application for Combined Licenses (COLs) for Construction Permits and Operating Licenses, (NUREG-1943), Hood and Somervell Counties, TX, Comment Period Ends: 10/26/2010, Contact: Michael H. Willingham, 301-415-3924.

EIS No. 20100313, Final EIS, CDBG, 00, Goethals Bridge Replacement Project, Construction of Bridge across the Arthur Kill between Staten Island New York and Elizabeth, New Jersey, Funding and USCG Bridge Permit, NY and NJ, Wait Period Ends: 09/13/2010, Contact: Shelly Sugarman, 202-372-1521.

EIS No. 20100314, Final EIS, DOD, VT, 158th Fighter Wing Vermont Air National Guard Project, Proposed Realignment of National Guard Avenue and Main Gate Construction, Burlington International Airport in South Burlington, VT, Wait Period Ends: 09/13/2010, Contact: Robert Dogan, 301-836-8859.

EIS No. 20100315, Final EIS, USFWS, 00, Lewis and Clark National Wildlife Refuge and Julia Butler Hansen Refuge for the Columbian White-tailed Deer, Comprehensive Conservation Plan, Implementation, Wahkiakum County, WA and Clatsop and Columbia Counties, OR, Wait Period Ends: 09/13/2010, Contact: Charlie Stenvall, 360-484-3482.

EIS No. 20100316, Final EIS, BIA, CA, Ione Band of Miwok Indians Project, Proposed 228.04 Acre Fee-to-Trust Land Transfer and Casino Project, Amador County, CA, Wait Period Ends: 09/13/2010, Contact: John Rydzik, 916-978-6051.

Dated: August 10, 2010.
Robert W. Hargrove,
Director, NEPA Compliance Division, Office of Federal Activities.

[FR Doc. 2010-20050 Filed 8-12-10; 8:45 am]

BILLING CODE 6560-50-P